DEPARTMENT OF LABOR

Employment and Training Administration

[TA-W-54,932]

United Plastics Group, Bensenville, IL; Notice of Termination of Investigation

Pursuant to section 221 of the Trade Act of 1974, as amended, an investigation was initiated on May 19, 2004, in response to a worker petition filed an agent of the Illinois Department of Employment Security on behalf of workers at United Plastics Group, Bensenville, Illinois.

The petitioner has requested that the petition be withdrawn. Consequently, the investigation has been terminated.

Signed in Washington, DC this 25th day of May, 2004.
Richard Church,
Certifying Officer, Division of Trade Adjustment Assistance.

[FR Doc. 04-13371 Filed 6-14-04; 8:45 am]

BILLING CODE 4510-30-P